DEPARTMENT OF TRANSPORTATION

Federal Aviation Administration

14 CFR Part 95

[Docket No. 30644; Amdt. No. 478]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, January 15, 2008.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace Navigation (air).

Issued in Washington, DC on December 19, 2008.
John M. Allen,
Deputy Director, Flight Standards Service.

Adoption of the Amendment

Accordingly, pursuant to the authority delegated to me by the Administrator, part 95 of the Federal Aviation Regulations (14 CFR part 95) is amended as follows effective at 0901 UTC, January 15, 2008.

PART 95—IFR ALTITUDES [AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 478 effective date January 15, 2009]
From | To | MEA
§ 95.1001 Direct Routes—U.S.
Puerto Rico Routes—Route 010 Is Amended To Read in Part
PONCE, PR VOR/DME | KYAAK,PR FIX | 6000
KYAAK, PR FIX | ALASK, PR FIX | 6000
§ 95.6001 Victor Routes—U.S.
§ 95.6002 VOR Federal Airway V2 Is Amended To Read in Part
U.S. CANADIAN BORDER | BUFFALO, NY VOR/DME | *3000
*2400—MOCA
#BUFFALO, NY VOR/DME | ROCHESTER, NY VOR/DME | 2800
#R-083 UNUSABLE BELOW 11000
ROCHESTER, NY VOR/DME | MAGEN, NY FIX | 2300
MAGEN, NY FIX | *KONDO, NY FIX | 2300
*4800—MRA
*KONDO, NY FIX | **WIFFY, NY FIX | 2300
*4800—MRA
**3000—MRA
*WIFFY, NY FIX | SYRACUSE, NY VORTAC | 2300
*3000—MRA
§ 95.6007 VOR Federal Airway V7 Is Amended To Read in Part
WIREGRASS, AL VORTAC | CLIOS, AL FIX | 2200
CLIOS, AL FIX | BANBI, AL FIX | *2400
*2400—GNSS MEA
BANBI, AL FIX | MONTGOMERY, AL VORTAC | 2400
§ 95.6016 VOR Federal Airway V16 Is Amended To Read in Part
WINK, TX VORTAC | GOMIT, TX FIX | 5500
GOMIT, TX FIX | PIZON, TX FIX | 5000
PIZON, TX FIX | MERGE, TX FIX | *7000
*4400—MOCA
MERGE, TX FIX | BIG SPRING, TX VORTAC | 4400
§ 95.6020 VOR Federal Airway V20 Is Amended To Read In Part
PALACIOS, TX VORTAC | *MAGUS, TX FIX | 1800
*3000—MRA
*MAGUS, TX FIX | KEEDS, TX FIX | 1700
*3000—MRA
§ 95.6031 VOR Federal Airway V31 Is Amended To Read in Part
GIBBE, NY FIX | BEEPS, NY FIX | 3500
BEEPS, NY FIX | ROCHESTER, NY VOR/DME | 4000
ROCHESTER, NY VOR/DME | TORONTO, CA VOR/DME | 4000
§ 95.6034 VOR Federal Airway V34 Is Amended To Read in Part
ROCHESTER, NY VOR/DME | HANCOCK, NY VOR/DME | 4000
§ 95.6037 VOR Federal Airway V37 Is Amended To Read in Part
SAVANNAH, GA VORTAC | ALLENDALE, SC VOR | *6000
*1600—MOCA
*4000—GNSS MEA
§ 95.6043 VOR Federal Airway V43 Is Amended To Read in Part
U.S. CANADIAN BORDER | BUFFALO, NY VOR/DME | *3000
*2400—MOCA
§ 95.6077 VOR Federal Airway V77 Is Amended To Read in Part
HEYDN, KS FIX | TOPEKA, KS VORTAC | 3700
§ 95.6078 VOR Federal Airway V78 Is Amended To Read in Part
WATERTOWN, SD VORTAC | CLAPS, MN FIX | *5500
*3300—MOCA
§ 95.6093 VOR Federal Airway V93 Is Amended To Read in Part
GIDEC, PA FIX | WILKES-BARRE, PA VORTAC | 4000
BRNNS, ME FIX | BANGOR, ME VORTAC | 3000
§ 95.6105 VOR Federal Airway V105 Is Amended To Read in Part
KARLO, AZ FIX | DRAKE, AZ VORTAC | *12000
*10000—MOCA
*10000—GNSS MEA
§ 95.6119 VOR Federal Airway V119 Is Amended To Read in Part
GENESEO, NY VOR/DME | ROCHESTER, NY VOR/DME | 2800
§ 95.6140 VOR Federal Airway V140 Is Amended To Read in Part
KINGFISHER, OK VORTAC | LASTS, OK FIX | 3000
LASTS, OK FIX | IBAAH, OK FIX | *4500
*3100—MOCA
IBAAH, OK FIX | TULSA, OK VORTAC | 3200
§ 95.6147 VOR Federal Airway V147 Is Amended To Read in Part
GENESEO, NY VOR/DME | ROCHESTER, NY VOR/DME | 2800
§ 95.6149 VOR Federal Airway V149 Is Amended To Read in Part
MAZIE, PA FIX | #ALLENTOWN, PA VORTAC | *6000
*3000—GNSS MEA
#R-157 UNUSABLE
§ 95.6163 VOR Federal Airway V163 Is Amended To Read in Part
LAMPASAS, TX VORTAC | *TENAT, TX FIX | **3500
*4000—MRA
**2700—MOCA
*TENAT, TX FIX | GLEN ROSE, TX VORTAC | **3500
*4000—MRA
**2700—MOCA
§ 95.6168 VOR Federal Airway V168 Is Amended To Read in Part
MILER, AL FIX | EFORD, AL FIX | *3000
*2400—MOCA
*3000—GNSS MEA
§ 95.6170 VOR Federal Airway V170 Is Amended To Read in Part
#DUPONT, DE VORTAC | KERNO, MD FIX | *2000
*2000—GNSS MEA
#R-233 UNUSABLE BEYOND 22NM
KERNO, MD FIX | SWANN, MD FIX | *2500
*1500—MOCA
*2500—GNSS MEA
§ 95.6174 VOR Federal Airway V174 Is Amended To Read in Part
YORK, KY VORTAC | HENDERSON, WV VORTAC | 3300
§ 95.6181 VOR Federal Airway V181 Is Amended To Read in Part
#SIOUX FALLS, SD VORTAC | *OBITT, SD FIX | **4000
*5000—MRA
**3500—MOCA
#R-340 UNUSABLE BELOW 4000
*OBITT, SD FIX | WATERTOWN, SD VORTAC | **4000
*5000—MRA
**3200—MOCA
§ 95.6214 VOR Federal Airway V214 Is Amended To Read in Part
SWANN, MD FIX | KERNO, MD FIX | *2500
*1500—MOCA
*2500—GNSS MEA
KERNO, MD FIX | #DUPONT, DE VORTAC | *2000
*2000—GNSS MEA
#R-233 UNUSABLE BEYOND 22NM
§ 95.6255 VOR Federal Airway V255 Is Amended To Read in Part
GARDEN CITY, KS VORTAC | HAYS, KS VORTAC | 4600
§ 95.6280 VOR Federal Airway V280 Is Amended To Read in Part
HEYDN, KS FIX | TOPEKA, KS VORTAC | 3700
§ 95.6327 VOR Federal Airway V327 Is Amended To Read in Part
RADOM, AZ FIX | *FERER, AZ FIX |
| N BND | **12000
| S BND | **11000
*11000—MCA FERER, AZ FIX, S BND
**8400—MOCA
**9000—GNSS MEA
FERER, AZ FIX | OATES, AZ FIX | **12000
**9400—MOCA
**10000—GNSS MEA
§ 95.6417 VOR Federal Airway V417 Is Amended To Read in Part
COLLIERS, SC VORTAC | ALLENDALE, SC VOR | 3000
ALLENDALE, SC VOR | *STOAS, SC FIX | **6000
*6000—MCA STOAS, SC FIX, W BND
**2000—GNSS MEA
STOAS, SC FIX | CHARLESTON, SC VORTAC | 2000
§ 95.6433 VOR Federal Airway V433 Is Amended To Read in Part
SWANN, MD FIX | KERNO, MD FIX | *2500
*1500—MOCA
*2500—GNSS MEA
KERNO, MD FIX | #DUPONT, DE VORTAC | *2000
*2000—GNSS MEA
#R-233 UNUSABLE BEYOND 22 NM
§ 95.6445 VOR Federal Airway V445 Is Amended To Read in Part
SWANN, MD FIX | KERNO, MD FIX | *2500
*1500—MOCA
*2500—GNSS MEA
KERNO, MD FIX | #DUPONT, DE VORTAC | *2000
*2000—GNSS MEA
#R-233 UNUSABLE BEYOND 22 NM
§ 95.6483 VOR Federal Airway V483 Is Amended To Read in Part
#SYRACUSE, NY VORTAC | *LYSAN, NY FIX | 2300
*3000—MRA
#R-294 UNUSABLE BEYOND 16 NM
*LYSAN, NY FIX | DINES, NY FIX | **2300
*3000—MRA
**3000—GNSS MEA
DINES, NY FIX | ROCHESTER, NY VOR/DME | 2300
§ 95.6510 VOR Federal Airway V510 Is Amended To Read in Part
#BUFFALO, NY VOR/DME | *EHMAN, NY FIX | **11000
*11000—MCA EHMAN, NY FIX, SW BND
**3000—GNSS MEA
#R-053 UNUSABLE BELOW 11000
EHMAN, NY FIX | ROCHESTER, NY VOR/DME | 2400
§ 95.6521 VOR Federal Airway V521 Is Amended To Read in Part
#WIREGRASS, AL VORTAC | CLIOS, AL FIX | 2200
#R-331 NA BEYOND CLIOS
CLIOS, AL FIX | BANBI, AL FIX | *2400
*2400—GNSS MEA
BANBI, AL FIX | MONTGOMERY, AL VORTAC | 2400
§ 95.6562 VOR Federal Airway V562 Is Amended To Read in Part
RADOM, AZ FIX | *FERER, AZ FIX |
| N BND | **12000
| S BND | **11000
*11000—MCA FERER, AZ FIX, S BND
**8400—MOCA
**9000—GNSS MEA
§ 95.6567 VOR Federal Airway V567 Is Amended To Read in Part
RADOM, AZ FIX | *FERER, AZ FIX |
| N BND | **12000
| S BND | **11000
*14000—MCA FERER, AZ FIX, NE BND
*11000—MCA FERER, AZ FIX, S BND
**8400—MOCA
**9000—GNSS MEA
§ 95.6581 VOR Federal Airway V581 Is Amended To Read in Part
ST PETERSBURG, FL VORTAC | TUMPY, FL FIX | 2000
TUMPY, FL FIX | DADES, FL FIX | *5000
*2000—GNSS MEA
DADES, FL FIX | OCALA, FL VORTAC | 2000

From | To | MEA | MAA
§ 95.7001 Jet Routes
§ 95.7213 Jet Route J213 Is Amended To Read in Part
ARMEL, VA VORTAC | BECKLEY, WV VORTAC | *18000 | 45000
*18000—GNSS MEA
#R-072 UNUSABLE
§ 95.7522 Jet Route J522 Is Amended To Read in Part
U.S. CANADIAN BORDER | ROCHESTER, NY VOR/DME | *18000 | 35000
*18000—GNSS MEA

From | To | Changeover points: Distance | Changeover points: From
§ 95.8003 VOR Federal Airway Changeover Points
Airway Segment V20 Is Amended To Add Changeover Point
MAGUS, TX FIX | HOBBY, TX VOR/DME | 35 | MAGUS
Airway Segment Is Amended To Delete Changeover Point
PALACIOS, TX VORTAC | HOBBY, TX VOR/DME | 41 | PALACIOS
Airway Segment V7 Is Amended To Add Changeover Point
SEMINOLE, FL VORTAC | WIREGRASS, AL VORTAC | 52 | SEMINOLE

[FR Doc. E8-31442 Filed 1-5-09; 8:45 am]

BILLING CODE 4910-13-P